DEPARTMENT OF ENERGY

Federal Energy Regulatory Commission

Combined Notice of Filings #1

Take notice that the Commission received the following electric rate filings:

Docket Numbers: ER15-414-001.

Applicants: ISO New England Inc., Emera Energy Services Subsidiary No. 1 LLC, Central Maine Power Company, New England Power Company, Northeast Utilities Service Company (as, The United Illuminating Company, Vermont Transco, LLC, Unitil Energy Systems, Inc., New Hampshire Transmission, LLC.

Description: Compliance filing per 35: ER15-414 ROE Compliance Filing to be effective 10/16/2014.

Filed Date: 4/22/15.

Accession Number: 20150422-5315.

Comments Due: 5 p.m. ET 5/13/15.

Docket Numbers: ER15-1120-001.

Applicants: Nevada Power Company.

Description: Tariff Amendment per 35.17(b): Service Agreement No. 14-00081 NPC and Aiya LGIA Change in Effective Date to be effective 12/31/9998.

Filed Date: 4/22/15.

Accession Number: 20150422-5310.

Comments Due: 5 p.m. ET 5/13/15.

Docket Numbers: ER15-1121-001.

Applicants: Nevada Power Company.

Description: Tariff Amendment per 35.17(b): Service Agreement No. 12-00082 NPC and Moapa LGIA Change in Effective Date to be effective 12/31/9998.

Filed Date: 4/22/15.

Accession Number: 20150422-5318.

Comments Due: 5 p.m. ET 5/13/15.

Docket Numbers: ER15-1122-001.

Applicants: Nevada Power Company.

Description: Tariff Amendment per 35.17(b): Service Agreement No. 14-00076 NPC and Playa Change in Effective Date to be effective 12/31/9998.

Filed Date: 4/23/15.

Accession Number: 20150423-5001.

Comments Due: 5 p.m. ET 5/14/15.

Docket Numbers: ER15-1549-000.

Applicants: Central Maine Power Company.

Description: Section 205(d) rate filing per 35.13(a)(2)(iii): Executed CSIA with Brookfield White Pine Hydro LLC to be effective 3/23/2015.

Filed Date: 4/22/15.

Accession Number: 20150422-5284.

Comments Due: 5 p.m. ET 5/13/15.

Docket Numbers: ER15-1550-000.

Applicants: PJM Interconnection, L.L.C., The Dayton Power and Light Company.

Description: Section 205(d) rate filing per 35.13(a)(2)(iii): DP&L submits Original Service Agreement No. 4133 to be effective 4/23/2015.

Filed Date: 4/22/15.

Accession Number: 20150422-5290.

Comments Due: 5 p.m. ET 5/13/15.

Docket Numbers: ER15-1551-000.

Applicants: Central Maine Power Company.

Description: Section 205(d) rate filing per 35.13(a)(2)(iii): Executed CSIA with FPL Energy Cape LLC to be effective 4/14/2015.

Filed Date: 4/22/15.

Accession Number: 20150422-5292.

Comments Due: 5 p.m. ET 5/13/15.

Docket Numbers: ER15-1552-000.

Applicants: Central Maine Power Company.

Description: Section 205(d) rate filing per 35.13(a)(2)(iii): Executed CSIA with FPL Energy Wyman LLC to be effective 4/14/2015.

Filed Date: 4/22/15.

Accession Number: 20150422-5300.

Comments Due: 5 p.m. ET 5/13/15.

Docket Numbers: ER15-1553-000.

Applicants: Central Maine Power Company.

Description: Section 205(d) rate filing per 35.13(a)(2)(iii): Executed CSIA with FPL Energy Wyman IV LLC to be effective 4/14/2015.

Filed Date: 4/22/15.

Accession Number: 20150422-5305.

Comments Due: 5 p.m. ET 5/13/15.

Docket Numbers: ER15-1554-000.

Applicants: Midcontinent Independent System Operator, Inc.

Description: Section 205(d) rate filing per 35.13(a)(2)(iii): 2015-04-23_SA 2780 ATC-Minnesota Power OCSA to be effective 6/23/2015.

Filed Date: 4/23/15.

Accession Number: 20150423-5081.

Comments Due: 5 p.m. ET 5/14/15.

Docket Numbers: ER15-1555-000.

Applicants: Midcontinent Independent System Operator, Inc.

Description: Section 205(d) rate filing per 35.13(a)(2)(iii): 2015-04-23_SA 2781 ATC-Superior Water Light & Power OCSA to be effective 6/23/2015.

Filed Date: 4/23/15.

Accession Number: 20150423-5087.

Comments Due: 5 p.m. ET 5/14/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 23, 2015.
Nathaniel J. Davis, Sr.,
Deputy Secretary.

[FR Doc. 2015-09969 Filed 4-28-15; 8:45 am]

BILLING CODE 6717-01-P